DEPARTMENT OF AGRICULTURE

Food and Nutrition Service

Agency Information Collection Activities: Proposed Collection; Comment Request—Summer Meals Study

AGENCY: Food and Nutrition Service (FNS), USDA.

ACTION: Notice.

SUMMARY: In accordance with the Paperwork Reduction Act of 1995, this notice invites the general public and other public agencies to comment on this proposed information collection. This collection is a new collection. The purpose of the Summer Meals Study is for the Food and Nutrition Service to understand the facilitators and barriers to program implementation, perceived benefits and challenges for sponsor and site participation, nutritional quality of meals served, parental awareness, factors influencing child participation, and experience with the Summer Food Service Program and the National School Lunch Program's Seamless Summer Option.

DATES: Written comments must be received on or before October 23, 2017.

ADDRESSES: Comments may be sent to: Alice Ann Gola, Office of Policy Support, Food and Nutrition Service, USDA, 3101 Park Center Drive, Room 1014, Alexandria, VA 22302. Comments may also be submitted via fax to the attention of Alice Ann Gola at 703-305-2576 or via email to AliceAnn.Gola@fns.usda.gov. Comments will also be accepted through the Federal eRulemaking Portal. Go to http://www.regulations.gov and follow the online instructions for submitting comments electronically.

All written comments will be open for public inspection at the office of the Food and Nutrition Service during regular business hours (8:30 a.m. to 5 p.m. Monday through Friday) at 3101 Park Center Drive, Alexandria, Virginia 22302.

All responses to this notice will be summarized and included in the request for Office of Management and Budget approval. All comments will be a matter of public record.

FOR FURTHER INFORMATION CONTACT: Requests for additional information or copies of this information collected should be directed to Alice Ann Gola at 703-305-4347 or aliceann.gola@fns.usda.gov.

SUPPLEMENTARY INFORMATION:

Title: Summer Meals Study.

Form Number: Not applicable.

OMB Number: 0584-NEW.

Expiration Date: Not Yet Determined.

Type of Request: New collection.

Abstract: The Federally-funded Summer Food Service Program (SFSP) and the National School Lunch Program's Seamless Summer Option (SSO) provide healthy meals and snacks to children through 18 years of age, in low-income areas during summer months when school is not in session. Open summer sites provide free meals to children in geographical areas where at least 50 percent of children are eligible for free or reduced price school meals (i.e., at or below 185 percent of the Federal poverty level). Closed enrolled summer sites provide free meals to children enrolled in an activity program where at least half of the children are individually determined eligible for free or reduced price meals. Open and enrolled sites, as well as sites that predominantly serve children of migrant workers, receive reimbursement from the United States Department of Agriculture (USDA) for the meals they serve to all children in attendance. The reimbursement rates vary depending on the type of meal served (i.e., breakfast, lunch, supper, or snack) and whether the site is operating SFSP or SSO. The SFSP and SSO sites operate at State, Local or Tribal locations such as public and private nonprofit schools, local government agencies, business organizations such as youth sports programs, churches, and food pantries. In July 2016, 5,525 sponsors managed 48,618 sites and served 3.85 million summer meals to participating children.¹ However, summer meals reach only a small percent of the children receiving free or reduced price meals during the school year. This study will help identify strategies to increase participation in summer meals as well as assess the nutritional quality of the meals served to children. Legislation requires those programs participating in the SFSP or SSO to cooperate with program research and evaluation (Section 305 of the Healthy Hunger Free Kids Act).

¹ The USDA FNS National Data Bank provides a single official repository to support the analysis and public release of FNS program information through the Food Programs Reporting System (FPRS) OMB Control No. 0584-0594 Expiration 6/2019, data from various FNS programs are extracted and imported into the NDB database. This number includes meals served through both SFSP and SSO.

The six study objectives are: (1) Identify reasons children and their caregivers participate in summer meals and their satisfaction levels with the program; (2) Assess how characteristics differ between participants and eligible nonparticipants of SFSP and SSO; (3) Determine the reasons eligible families do not participate in SFSP and SSO; (4) Determine the food service characteristics of SFSP and SSO sites; (5) Describe the characteristics and content of SFSP and SSO meals and snacks; and (6) Assess facilitators and barriers to preparing and serving SFSP and SSO meals and snacks.

A nationally representative study with a mixed-methods research design will be used to address the six study objectives. States will be selected for the study using FNS administrative data on SFSP and SSO program size. In the selected States, State agencies administering SFSP and SSO will provide lists of participating sites and sponsors from which the sample of sites will be drawn. State agencies administering the Supplemental Nutrition Assistance Program (SNAP) in these States will provide SNAP caseload data. These data will be used in conjunction with postal data to identify children in the catchment areas of sampled sites. Quantitative and qualitative data will be collected from SFSP and SSO sponsors and sites, former sponsors, and participants and eligible nonparticipants.

Comments are invited on: (a) Whether the proposed collection of information is necessary for the proper performance of the functions of the agency, including whether the information shall have practical utility; (b) the accuracy of the agency's estimate of the burden on the proposed collection of information, including the validity of the methodology and assumptions that were used; (c) ways to enhance the quality, utility, and clarity of the information collected; and (d) ways to minimize the burden of the collection of information on those who are to respond, including use of appropriate automated, electronic, mechanical, or other technological collection techniques or other forms of information technology.

Affected Public: Respondent groups identified include: (1) Individuals/Households (preschool- and school-aged children and teens eligible for participation in summer meals and their caregivers); (2) State/Local Government (SFSP and SSO State agencies, SNAP State agencies, and SFSP and SSO sponsors, former sponsors, and sites); and (3) Businesses-for-not-for-Profit (SFSP sponsors, former sponsors, and sites).

Estimated Number of Respondents: 88, 222.48. Out of the 88,222 sample size initially contacted, FNS anticipates approximately 44,340.59 will respond and 43,881 will not respond during the initial contact. FNS will continue to re-contact non-respondents to reach the desired participation rates. This includes: 85,575 individuals and households, 59 State, Local or Tribal agencies; 1,108 sponsors (665 in the State/Local Government category and 443 in the Business category); and1,480 site supervisors (888 in the State/Local Government category and 592 in the Business category).

Estimated Number of Responses per Respondent: 3.67. SFSP and SSO State agencies will be asked to provide lists of participating sites/sponsors twice: Once to draw the initial sample (based on sites and sponsors participating in the Summer of 2017), and then again to finalize the sample to include sites and sponsors participating in the Summer of 2018. SNAP State agencies will be asked to provide caseload data once. Caregivers and their children will be asked to respond to one survey, and a subset of caregivers will be invited to participate in a follow-up key informant interview. Sponsors and site supervisors will respond to one survey, and a subset will be invited to participate in a follow-up telephone interview. Those sponsors and site supervisors responsible for menu planning for the sampled site will also be asked to respond to a menu planning survey, and to provide details on the meals from one week of menus. Some of these sponsors and sites will receive a follow-up menu report to fill in details missing from their original submission of menu information. Former sponsors will be asked to respond to one telephone interview.

Estimated Total Annual Responses: 323,788. There are approximately 169.470.33 total annual responses from participants and approximately 154,307.74 non-responses for those we contacted. Some non-participants were re-contacted more than once.

Estimated Average Time per Response: 0.6875. The estimated time of response varies from 1 minute to 60 minutes depending on the respondent group, as shown in the table below; the average estimated response is 0.13 hours.

Estimated Total Annual Burden on Respondents: 22,262. The total public reporting burden for this collection of information is estimated at 22,261.68 rounded up to 22,262 burden hours and 323,778 total annual responses. Out of the 22,262 burden hours 18,924 are for respondents and 3337.67 burden hours are for non-respondents. See the table below for estimated total annual burden for each type of respondent.

BILLING CODE 3410-30-P

Dated: August 10, 2017.
Brandon Lipps,
Administrator, Food and Nutrition Service.

[FR Doc. 2017-17643 Filed 8-21-17; 8:45 am]

BILLING CODE 3410-30-C